DEPARTMENT OF HEALTH AND HUMAN SERVICES

Centers for Disease Control and Prevention

[Docket Number CDC-2016-0020, NIOSH-289]

National Institute for Occupational Safety and Health (NIOSH) Quality Assurance Review of B Readers' Classifications Submitted in the Department of Labor (DOL) Black Lung Benefits Program

AGENCY: National Institute for Occupational Safety and Health (NIOSH) of the Centers for Disease Control and Prevention (CDC), Department of Health and Human Services (HHS).

ACTION: Request for information and comment.

SUMMARY: The National Institute for Occupational Safety and Health (NIOSH), Centers for Disease Control and Prevention, announces the availability of draft procedures pertaining to classifications referred to the NIOSH Respiratory Health Division (RHD) by the Department of Labor, Office of Workers' Compensation Programs, for quality assurance review and corrective measures. The draft, titled, National Institute for Occupational Safety and Health (NIOSH) Quality Assurance Review of B Readers' Classifications Submitted in the Department of Labor (DOL) Black Lung Benefits Program, is available for public comment. To view the notice and related materials, visit www.regulations.gov and enter CDC-2016-0020 in the field and click “Search.” This draft document does not have the force or effect of the law.

TABLE OF CONTENTS

• DATES:

• ADDRESSES:

• FOR FURTHER INFORMATION:

• SUPPLEMENTARY INFORMATION:

DATES: Comments must be received by April 18, 2016.

ADDRESSES: You may submit comments, identified by CDC-2016-0020 and docket number NIOSH-289, by any of the following methods:

• Federal eRulemaking Portal: www.regulations.gov. Follow the instructions for submitting comments.

• Mail: National Institute for Occupational Safety and Health, NIOSH Docket Office, 1090 Tusculum Avenue, MS C-34, Cincinnati, Ohio 45226-1998.

Instructions: All information received in response to this notice must include the agency name and docket number [CDC-2016-0020; NIOSH-289]. All relevant comments received will be posted without change to www.regulations.gov, including any personal information provided. For access to the docket to read background materials and comments received, go to www.regulations.gov. All information received in response to this notice will also be available for public examination and copying at the NIOSH Docket Office, 1150 Tusculum Avenue, Room 155, Cincinnati, OH 45226-1998.

FOR FURTHER INFORMATION CONTACT: Dr. Eileen Storey, NIOSH, Respiratory Health Division, Surveillance Branch, 1095 Willowdale Road, Morgantown, WV, 26505. Telephone (304) 285-5754 (this is not a toll-free number).

SUPPLEMENTARY INFORMATION: In 2015, NIOSH and the DOL Office of Workers' Compensation Programs (OWCP) entered into a Memorandum of Understanding (MOU) ¹ designed to establish a joint quality assurance program for the assessment of classifications of chest radiographic images performed by physicians in Black Lung Benefits proceedings who are “B Readers” certified by NIOSH. The B Reader Certification Program was established by NIOSH pursuant to the Federal Mine Safety and Health Act of 1977, 30 U.S.C. 843. NIOSH B Readers are physicians who have demonstrated proficiency in the use of the International Labour Organization (ILO) Classification of Radiographs of Pneumoconioses by passing a proficiency examination offered by NIOSH, as specified in 42 CFR 37.51. B Readers may submit classifications as part of OWCP's process of evaluating claims for compensation under the federal Black Lung Benefits Act, 30 U.S.C. 901 to 944.

¹ The Memorandum of Understanding between the Department of Labor Office of Workers' Compensation Programs (OWCP) and the Department of Health and Human Services, Centers for Disease Control and Prevention, National Institute for Occupational Safety and Health (NIOSH) establishing a B reader quality assurance program, is found in the docket for this action.

To implement the MOU, NIOSH has developed a draft quality assurance review procedure entitled, NIOSH Quality Assurance Review of B Readers' Classifications Submitted in the Department of Labor (DOL) Black Lung Benefits Program, to provide a mechanism to assess the quality of classifications of certain chest radiographs performed by B Readers. NIOSH quality assurance review will focus on the classification of the presence or absence of large opacities as described in the ILO classification system in chest radiographs, because coal miners with large opacities are irrefutably presumed to be totally disabled, or to have died, from pneumoconiosis, pursuant to 30 U.S.C. 921(c)(3). Thus, determinations of large opacities have a significant impact on awarding benefits under the Black Lung Benefits Act.

NIOSH seeks comment from B Readers and other interested parties on the draft procedure. All comments submitted will be considered; the final version of this procedure will be published on the NIOSH Web site.

Dated: February 8, 2016.
John Howard,
Director, National Institute for Occupational Safety and Health, Centers for Disease Control and Prevention.

[FR Doc. 2016-03242 Filed 2-16-16; 8:45 am]

BILLING CODE 4163-19-P